ENVIRONMENTAL PROTECTION AGENCY

40 CFR Part 721

[OPPTS-50639A; FRL-6756-9]

RIN 2070-AD43

Perfluorooctyl Sulfonates, Proposed Significant New Use Rule; Extension of Comment Period

AGENCY: Environmental Protection Agency (EPA).

ACTION: Proposed rule; extension of comment period.

SUMMARY: EPA is extending the existing comment period for the proposed significant new use rule (SNUR) on perfluorooctyl sulfonates published on October 18, 2000, in the Federal Register. In response to several requests, the comment period is being extended by 45 days, until January 1, 2001. The comment period was scheduled to close on November 17, 2000. The proposed SNUR under section 5(a)(2) of the Toxic Substances Control Act (TSCA) applies to the following chemical substances: perfluorooctanesulfonic acid (PFOSA) and certain of its salts (PFOSS), perfluorooctanesulfonyl fluoride (PFOSF), certain higher and lower homologues of PFOSA and PFOSF, and certain other chemical substances, including polymers, that contain PFOSA and its homologues as substructures. All of these chemical substances are referred to collectively in the proposed rule as perfluorooctyl sulfonates, or PFOS. The proposed rule would require manufacturers and importers to notify EPA at least 90 days before commencing the manufacture or import of these chemical substances for the significant new uses described in this document. EPA believes that this action is necessary because the chemical substances included in this proposed rule may be hazardous to human health and the environment. The required notice would provide EPA with the opportunity to evaluate an intended new use and associated activities and, if necessary, to prohibit or limit that activity before it occurs.

DATES: Comments, identified by docket control number OPPTS-50639A, must be received on or before January 1, 2001.

ADDRESSES: Comments may be submitted by mail, electronically, or in person. Please follow the detailed instructions for each method as provided in Unit III. of the SUPPLEMENTARY INFORMATION. To ensure proper receipt by EPA, it is imperative that you identify docket control number OPPTS-50639A in the subject line on the first page of your response.

FOR FURTHER INFORMATION CONTACT: For general information contact: Barbara Cunningham, Acting Director, Environmental Assistance Division, Office of Pollution Prevention and Toxics (7408), Environmental Protection Agency, 1200 Pennsylvania Ave., NW., Washington, DC 20460; telephone number: (202) 554-1404; e-mail address: TSCA-Hotline@epa.gov.

For technical information contact: Mary Dominiak, Chemical Control Division (7405), Office of Pollution Prevention and Toxics, Environmental Protection Agency, 1200 Pennsylvania Ave., NW., Washington, DC 20460; telephone number: (202) 260-7768; fax number: (202) 260-1096; e-mail address: dominiak.mary@epa.gov.

SUPPLEMENTARY INFORMATION:

I. Does this Action Apply to Me?

You may be affected by this action if you manufacture (defined by statute to include import) any of the chemical substances that are listed in Table 2 or Table 3 of the proposed rule. Persons who intend to import any chemical substance governed by a final SNUR are subject to the TSCA section 13 (15 U.S.C. 2612) import certification requirements, and to the regulations codified at 19 CFR 12.118 through 12.127 and 12.728. Those persons must certify that they are in compliance with the SNUR requirements. The EPA policy in support of import certification appears at 40 CFR part 707, subpart B. In addition, any persons who export or intend to export any of the chemical substances listed in Table 2 or Table 3 of the proposed rule are subject to the export notification provisions of TSCA section 12(b) (15 U.S.C. 2611(b)), and must comply with the export notification requirements in 40 CFR 721.20 and 40 CFR part 707, subpart D. Entities potentially affected by the SNUR requirements in the proposed rule may include, but are not limited to:

Table 1.—Entities Potentially Affected by the SNUR Requirements
Categories | NAICS Codes | Examples of potentially affected entities
Chemical Manufacturers or Importers | 325 | Persons who manufacture (defined by statute to include import) one or more of the subject chemical substances
Chemical Exporters | 325 | Persons who export, or intend to export, one or more of the subject chemical substances

This listing is not intended to be exhaustive. Instead, it provides a guide for readers regarding entities likely to be affected by this action. Other types of entities not listed in Table 1 of this unit could also be affected. The North American Industrial Classification System (NAICS) codes have been provided to assist in determinations of whether this action might apply to certain entities. To determine if you or your business is affected by this action, you should carefully examine the applicability provisions at 40 CFR 721.5 for SNUR-related obligations. Note that because the proposed rule would designate certain manufacturing and importing activities as significant new uses, persons that solely process the chemical substances that would be covered by this action would not be subject to the rule. If you have any questions regarding the applicability of this action to a particular entity, consult the technical person listed under FOR FURTHER INFORMATION CONTACT.

II. How Can I Get Additional Information, Including Copies of this Document or Other Related Documents?

A. Electronically

You may obtain electronic copies of this document, and certain other related documents that might be available electronically, from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

B. In person

The Agency has established an official record for this action under docket control number OPPTS-50639A. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number for the Center is (202) 260-7099.

III. How and to Whom Do I Submit Comments?

As described in Unit I.C. of the proposed rule published in the Federal Register of October 18, 2000 (65 FR 62319) (FRL-6745-5), you may submit your comments through the mail, in person, or electronically. Please follow the instructions that are provided in the proposed rule. Please follow the instructions in Unit I.D. of the proposed rule to submit any information that you consider to be CBI. Do not submit any information electronically that you consider to be CBI. To ensure proper receipt by EPA, be sure to identify docket control number OPPTS-50639A in the subject line on the first page of your response.

IV. What Action is EPA Taking?

EPA is extending the comment period for the proposed SNUR on PFOS by 45 days, from November 17, 2000 until January 1, 2001. This proposed rule would require manufacturers and importers to notify EPA at least 90 days before commencing the manufacture or import of 90 PFOS chemical substances for the significant new uses described in the proposed rule.

As stated in Unit VII. of the proposed rule, EPA believes that the intent of TSCA section 5(a)(1)(B) is best served by designating a use as a significant new use as of the proposal date of the SNUR, rather than as of the effective date of the final rule. If uses begun after publication of the proposed SNUR were considered to be ongoing, rather than new, it would be difficult for EPA to establish SNUR notice requirements, because any person could defeat the SNUR by initiating the proposed significant new use before the rule became final, and then argue that the use was ongoing.

Persons who begin commercial manufacture or import of PFOS for the significant new uses listed in the proposed SNUR after the proposal has been published would be subject to the requirements of the SNUR when and if the rule goes final, and would have to stop that activity unless it meets the requirements of the final SNUR. Persons who ceased those activities will have to meet all SNUR notice requirements and wait until the end of the notice review period, including all extensions, before engaging in any activities designated as significant new uses. If, however, persons who begin commercial manufacture or import of these chemical substances between the proposal and the effective date of the SNUR meet the conditions of advance compliance as codified at 40 CFR 721.45(h), those persons will be considered to have met the final SNUR requirements for those activities.

V. What is the Agency's Authority for Taking this Action?

EPA proposed this SNUR pursuant to its authority under section 5(a)(2) of TSCA.

VI. Do Any Regulatory Assessment Requirements Apply to this Action?

No. This action is not a rulemaking, it merely extends the date by which public comments must be submitted to EPA on a proposed rule that previously published in the Federal Register. For information about the applicability of the regulatory assessment requirements to the proposed rule, please refer to the discussion in Unit XI. of that document (65 FR 62319, 62330).

List of Subjects in 40 CFR Part 721

Environmental protection, Chemicals, Hazardous materials, Recordkeeping and reporting requirements.

Dated: November 15, 2000.
Charles M. Auer,
Director, Chemical Control Division.

[FR Doc. 00-29782 Filed 11-16-00; 3:44 pm]

BILLING CODE 6560-50-S